DEPARTMENT OF THE INTERIOR

Bureau of Land Management

[CA-670-02-1610-JP-064B]

Notice of Availability of an Environmental Assessment and Associated Proposed Amendment to the California Desert Conservation Area Plan for Off-Road Vehicle Trail Designations in the Western Colorado Desert (WECO); Correction of Comment Period

AGENCY: Bureau of Land Management, Interior.

ACTION: Correction of comment period.

SUMMARY: The Bureau of Land Management (BLM) published in the Federal Register on October 18, 2002, a notice of availability of an Environmental Assessment and associated proposed amendment to the California Desert Conservation Area Plan for off-road vehicle trail designations in the Western Colorado Desert (WECO) portion of Imperial County, California. This notice erroneously indicated a comment period of 45 days after publication. The correct comment period closes 30 days from the Notice of availability, which is November 18, 2002.

FOR FURTHER INFORMATION CONTACT: Arnold Schoeck, Bureau of Land Management, 1661 South 4th Street, El Centro, CA 92243; (760) 337-4441.

Mary Smelcer,
Acting Assistant Director for Renewable Resources and Planning.

[FR Doc. 02-27677 Filed 10-28-02; 10:24 am]

BILLING CODE 4310-JA-M